DEPARTMENT OF HEALTH AND HUMAN SERVICES

Administration for Children and Families

Proposed Information Collection Activity; Comment Request

Title: Head Start Impact Study Participants Beyond 8th Grade.

OMB No.: 0970-0229.

Description: The Administration for Children and Families (ACF) within the Department of Health and Human Services (HHS) will collect follow-up information from children and families in the Head Start Impact Study. In anticipation of conducting a future follow-up for the study, ACF will collect information necessary to identify respondent's current location and follow-up with respondents in the future.

The Head Start Impact Study is a longitudinal study involving 4,667 first-time enrolled three- and four-year-old preschool children across 84 nationally representative grantee/delegate agencies (in communities where there were more eligible children and families than can be served by the program). Participants were randomly assigned to either a Head Start group (that could enroll in Head Start services) or a control group (that could not enroll in Head Start services but could enroll in other available services selected by their parents). Data collection for the study began in fall of 2002 and continued through late spring 2008 to include the participants' 3rd grade year. Location and contact information for participants has been collected every spring beginning in 2009 and continued through spring 2014.

ACF will continue to collect a small amount of information for the sample through the spring of the participant's 12th grade year. To maintain adequate sample size, telephone interviews (with in-person follow-up as necessary) will be conducted in order to update the children's status and their location and contact information. This information will be collected from parents or guardians in the spring of 2015 and 2016. Updates will take about 20 minutes to complete.

Respondents: The original sample of 4,667 treatment and control group members in the Head Start Impact Study, less 432 families that have given a “hard” refusal to participate in the study (e.g., adamantly refused to participate or threatened interviewers if they were contacted again). The number of respondents for this requested data collection is 4,235.

Annual Burden Estimates
Instrument | Total number of respondents | Annual number of responses per respondent | Average burden hours per response | Annual burden hours
Parent Tracking Interview | 4235 | 1 | 1/3 | 1412

Estimated Total Annual Burden Hours: 1412.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance, Officer.

[FR Doc. 2014-11055 Filed 5-13-14; 8:45 am]

BILLING CODE 4184-22-P